DEPARTMENT OF ENERGY

Federal Energy Regulatory Commission

Combined Notice of Filings #1

Take notice that the Commission received the following electric rate filings:

Docket Numbers: ER15-1345-002.

Applicants: Midcontinent Independent System Operator, Inc.

Description: Compliance filing: 2015-11-12_SMEPA Compliance Amendment to be effective 6/1/2015.

Filed Date: 11/12/15.

Accession Number: 20151112-5253.

Comments Due: 5 p.m. ET 12/3/15.

Docket Numbers: ER15-2239-001.

Applicants: NextEra Energy Transmission West, LLC.

Description: Tariff Amendment: NextEra Energy Transmission West, LLC Response to Deficiency Letter to be effective 10/20/2015.

Filed Date: 11/10/15.

Accession Number: 20151110-5163.

Comments Due: 5 p.m. ET 12/1/15.

Docket Numbers: ER15-2679-000.

Applicants: Latigo Wind Park, LLC.

Description: Latigo Wind Park, LLC submits tariff filing per 35.12: Latigo Wind Park, LLC MBR Tariff to be effective 11/15/2015 Replaces 20150921-5134).

Filed Date: 10/22/15.

Accession Number: 20151022-5049.

Comments Due: 5 p.m. ET 12/3/15.

Docket Numbers: ER16-36-001.

Applicants: Public Service Company of Colorado.

Description: Tariff Amendment: 2015-11-12_PSC-WAPA-Con Fac Agrmt-359-0.0.1-Amend to be effective 12/8/2015.

Filed Date: 11/12/15.

Accession Number: 20151112-5199.

Comments Due: 5 p.m. ET 12/3/15.

Docket Numbers: ER16-305-000.

Applicants: California Independent System Operator Corporation.

Description: § 205(d) Rate Filing: 2015-11-10 Filing to Maintain Default Loss Allocation Provisions Effectiveness to be effective 2/11/2016.

Filed Date: 11/10/15.

Accession Number: 20151110-5165.

Comments Due: 5 p.m. ET 12/1/15.

Docket Numbers: ER16-306-000.

Applicants: Midcontinent Independent System Operator, Inc.

Description: § 205(d) Rate Filing: 2015-11-11_SA 2865 ITCTransmission-Michigan Wind 3 E&P Agreement (J321) to be effective 11/12/2015.

Filed Date: 11/12/15.

Accession Number: 20151112-5008.

Comments Due: 5 p.m. ET 12/3/15.

Docket Numbers: ER16-307-000.

Applicants: ISO New England Inc.

Description: ISO New England Inc. submits Installed Capacity Requirement, Hydro Quebec Interconnection Capability Credits and Related Values for the 2019/2020 Capacity Commitment Period.

Filed Date: 11/10/15.

Accession Number: 20151110-5193.

Comments Due: 5 p.m. ET 12/1/15.

Docket Numbers: ER16-308-000.

Applicants: ISO New England Inc.

Description: ISO New England Inc. submits Informational filing for Qualification in the Forward Capacity Market.

Filed Date: 11/10/15.

Accession Number: 20151110-5195.

Comments Due: 5 p.m. ET 11/25/15.

Docket Numbers: ER16-309-000.

Applicants: PJM Interconnection, L.L.C.

Description: Tariff Cancellation: Notice of Cancellation of ISA No. 4076, Queue No. Z1-098 to be effective 1/5/2016.

Filed Date: 11/12/15.

Accession Number: 20151112-5143.

Comments Due: 5 p.m. ET 12/3/15.

Docket Numbers: ER16-310-000.

Applicants: PJM Interconnection, L.L.C.

Description: § 205(d) Rate Filing: Amendment to Oregon Clean Energy ISA No. 3876, Queue No. Y1-069 to be effective 5/9/2014.

Filed Date: 11/12/15.

Accession Number: 20151112-5153.

Comments Due: 5 p.m. ET 12/3/15.

Docket Numbers: ER16-311-000.

Applicants: PJM Interconnection, L.L.C.

Description: § 205(d) Rate Filing: ice Agreement No. 4299; Queue No. AA2-072 to be effective 10/13/2015.

Filed Date: 11/12/15.

Accession Number: 20151112-5204.

Comments Due: 5 p.m. ET 12/3/15.

Docket Numbers: ER16-312-000.

Applicants: Parrey, LLC.

Description: Baseline eTariff Filing: Shared Facilities Agreement, FERC Electric Rate Schedule No. 1 to be effective 1/12/2016.

Filed Date: 11/12/15.

Accession Number: 20151112-5251.

Comments Due: 5 p.m. ET 12/3/15.

Docket Numbers: ER16-313-000.

Applicants: Java Solar, LLC.

Description: Baseline eTariff Filing: Shared Facilities Agreement, FERC Electric Rate Schedule No. 1 to be effective 1/12/2016.

Filed Date: 11/12/15.

Accession Number: 20151112-5252.

Comments Due: 5 p.m. ET 12/3/15.

Docket Numbers: ER16-314-000.

Applicants: Midcontinent Independent System Operator, Inc., South Mississippi Electric Power Association.

Description: § 205(d) Rate Filing: 2015-11-12_SMEPA Protocol Filing to be effective 6/1/2015.

Filed Date: 11/12/15.

Accession Number: 20151112-5255.

Comments Due: 5 p.m. ET 12/3/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 12, 2015.
Nathaniel J. Davis, Sr.,
Deputy Secretary.

[FR Doc. 2015-29506 Filed 11-18-15; 8:45 am]

BILLING CODE 6717-01-P